ENVIRONMENTAL PROTECTION AGENCY

[FRL-6915-3]

National Advisory Council for Environmental Policy and Technology, (NACEPT) Standing Committee on Compliance Assistance

AGENCY: Environmental Protection Agency (EPA).

ACTION: Notification of public advisory NACEPT standing committee on compliance assistance meeting; open meeting.

SUMMARY: Pursuant to the Federal Advisory Committee Act, Public Law 92-463, notice is hereby given that the Standing Committee on compliance assistance will meet on the date and time described below. The meeting is open to the public. Seating at the meeting will be a first-come basis and limited time will be provided for public comment. For further information concerning this meeting, please contact the individual listed with the announcement below. NACEPT Standing Committee on Compliance Assistance; January 10th & 11th, 2001. Notice is hereby given that the Environmental Protection Agency will hold an open meeting of the NACEPT Standing Committee on Compliance Assistance on Wednesday, January 10, 2001 from 8:30 a.m. to 5 p.m., and January 11, 2001 from 8:30 a.m. to 4:45 p.m.. The meeting will be held at the Washington Monarch Hotel, 2401 M. St. NW, Washington, DC 20037. The agenda for both days of the meeting will be focused primarily on the workgroup discussion of strategic compliance assistance (CA) policy issues, including integrating CA into the Agency's mission, CA measurement and CA priority setting. A formal agenda will be available at the meeting.

SUPPLEMENTARY INFORMATION: NACEPT is a federal advisory committee under the Federal Advisory Committee Act, Public Law 92-463. NACEPT provides advice and recommendations to the Administrator and other EPA officials on a broad range of domestic and international environmental policy issues. NACEPT consists of a representative cross-section of EPA's partners and principal constituents who provide advice and recommendations on policy issues and serve as a sounding board for new strategies.

Over the last two years, EPA has undertaken a number of actions to improve out Compliance Assistance activities. To ensure that the Agency efforts to improve compliance assistance are implemented in a way that continues to reflect stakeholder needs, the National Advisory Council on Environmental Policy and Technology (NACEPT) created a new Standing Committee on Compliance Assistance. This will provide a continuing Federal Advisory Committee forum from which the Agency can continue to receive valuable stakeholder advice and recommendations on compliance assistance activities.

For further information concerning the NACEPT Standing Committee on Compliance Assistance, including the upcoming meeting, contact Joanne Berman, Designated Federal Officer (DFO), on (202) 564-7064, or E-mail: berman.joanne@epa.gov.

Inspection of Subcommittee Documents: Documents relating to the above topics will be publicly available at the meeting.

Dated: December 4, 2000.
Joanne Berman,
Designated Federal Officer.

[FR Doc. 00-31616 Filed 12-11-00; 8:45 am]

BILLING CODE 6560-50-U